Title 3—

The President

Proclamation 7341 of September 15, 2000

National Farm Safety and Health Week, 2000

By the President of the United States of America

A Proclamation

Throughout history, America's farmers and ranchers have worked our land with skill, energy, and determination. They have endured floods and droughts, survived bitter winters and scorching summers, seen crops devastated by insects and livestock lost to disease. Through hard times and good times alike they have labored, making American agriculture the most efficient and productive source of food and fiber in the world.

Beyond the natural and economic challenges our Nation's agricultural workers face each year are the daily physical hazards associated with their profession, including handling livestock, using chemicals, and operating powerful machinery. To reduce the level of preventable workplace accidents that have taken such a toll on our country's agricultural communities, engineers and manufacturers have worked diligently to make farm equipment safer. Today, tractors and other farm machinery come with standard safety features such as rollover protection, bypass starting systems, and tamper-proof guarding and shielding.

However, designing safer farm machinery is only part of the solution. We must also ensure that agricultural workers are aware of the benefits of new safety features and that they strive to use and maintain them. Safety and health organizations are accomplishing this vital task by offering hands-on, interactive training programs in farming and ranching communities across the country. Through safety day camps and farm safety programs targeted specifically for children and adolescents growing up on farms and ranches, they are helping to protect the well-being of the most vulnerable members of our agricultural communities.

My Administration is also working hard to improve the health and safety of rural Americans. For example, we created the E-rate program, which, among other things, secures low-cost Internet connections for rural health clinics and hospitals. We have also urged the Congress to fund a meaningful Medicare prescription drug benefit that would provide affordable, dependable coverage to all beneficiaries, including more than 9 million Medicare beneficiaries in rural communities across the Nation. Compared to their urban counterparts, rural beneficiaries have lower incomes and more limited access to pharmacies, and are less likely to have any prescription drug coverage. Rural beneficiaries generally pay more for prescription drugs than urban beneficiaries and are more likely to go without needed medication because of its expense. Meaningful drug coverage for Medicare beneficiaries would help improve the health and quality of life of millions of older members of our Nation's farming and ranching communities.

All Americans owe a debt of gratitude to our country's farmers and ranchers, whose hard work puts food on our tables and helps ensure our Nation's leadership of the global economy. We can best acknowledge that debt by recognizing the importance of continually improving the health and safety of America's agricultural workers, not only during this special observance, but also throughout the year.

NOW, THEREFORE, I, WILLIAM J. CLINTON, President of the United States of America, by virtue of the authority vested in me by the Constitution and laws of the United States, do hereby proclaim September 17 through September 23, 2000, as National Farm Safety and Health Week. I call upon government agencies, organizations, and businesses that serve our agricultural sector to strengthen their efforts to promote safety and health programs among our Nation's farm and ranch workers. I ask agricultural workers to take advantage of the diverse educational and training programs and technical advancements that can help them avoid injury and illness. I also call upon our Nation to recognize Wednesday, September 20, 2000, as a day to focus on the risks facing young people on farms and ranches. Finally, I call upon the citizens of our Nation to reflect on the bounty we enjoy thanks to the labor and dedication of agricultural workers across our land.

IN WITNESS WHEREOF, I have hereunto set my hand this fifteenth day of September, in the year of our Lord two thousand, and of the Independence of the United States of America the two hundred and twenty-fifth.

wj

[FR Doc. 00-24254

Filed 9-18-00; 11:18 am]

Billing code 3195-01-P